DEPARTMENT OF STATE

[Public Notice 7662]

60-Day Notice of Proposed Information Collection: DS-4184, Risk Management and Analysis (RAM)

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Risk Analysis and Management.

• OMB Control Number: None.

• Type of Request: New.

• Originating Office: Bureau of Administration, Office of Logistics Management (A/LM).

• Form Number: DS-4184.

• Respondents: Potential contractors and grantees.

• Estimated Number of Respondents: 1250.

• Estimated Number of Responses: 6250.

• Average Hours per Response: 1 hour 15 minutes.

• Total Estimated Burden: 7813 hours.

• Frequency: On occasion.

• Obligation to Respond: Voluntary.

DATES: The Department will accept comments from the public up to 60 days from October 20, 2011.

ADDRESSES You may submit comments by any of the following methods:

• E-mail: Vazquezeh@State.gov.

• Mail (paper, disk, or CD-ROM submissions): U.S. Department of State, 2201 C St., NW., SA-15 Room 3200, Washington, DC 20520.

• Fax: 703-812-2307.

You must include the DS form number (if applicable), information collection title, and OMB control number in any correspondence.

FOR FURTHER INFORMATION CONTACT: Direct requests for additional information regarding the collection listed in this notice, including requests for copies of the proposed information collection and supporting documents, to Edward H. Vazquez, U.S. Department of State who may be reached by the following methods: Mail: U.S. Department of State, 2201 C St., NW., SA-15 Room 3200, Washington, DC 20520; Tel: 703-812-2308 or e-mail: Vazquezeh@State.gov.

If you have access to the internet you may submit comments online by going to: http://www.regulations.gov/search/Regs/home.html#home.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection:

The information collected from individuals and organizations is specifically used to conduct screening to ensure that State funded activities do not provide support to entities or individuals deemed to be a risk to national security.

Methodology:

The State Department, is implementing a Risk Analysis and Management Program to vet potential contractors and grantees seeking funding from the Department of State to mitigate the risk that such funds might benefit terrorists or their supporters. To conduct this vetting program the Department envisions collecting information from contractors, sub-contractors, grantees and sub-grantees regarding their directors, officers or key employees. The information collected will be compared to information gathered from commercial, public, and U.S. government databases to determine the risk that the applying organization, entity or individual might use Department funds or programs to benefit terrorist entities. This program will initially be conducted as a pilot program as directed by Congress in the FY 2010 Department of State, Foreign Operations, and Related Programs Appropriations Act, as carried forward in the FY 2011 Full-Year Continuing Appropriations Act.

Methodology: We will collect this information either through mail, fax or electronic submission.

Dated: October 14, 2011.
Catherine I. Ebert-Gray,
Deputy Assistant Secretary, Bureau of Administration, Department of State.

[FR Doc. 2011-27191 Filed 10-19-11; 8:45 am]

BILLING CODE 4710-24-P